DEPARTMENT OF COMMERCE

National Oceanic and Atmospheric Administration

Hydrographic Services Review Panel Meeting

AGENCY: National Ocean Service, National Oceanic and Atmospheric Administration (NOAA), Department of Commerce.

ACTION: Notice of open meeting.

SUMMARY: The Hydrographic Services Review Panel (HSRP) was established by the Secretary of Commerce to advise the Under Secretary of Commerce for Oceans and Atmosphere on matters related to the responsibilities and authorities set forth in section 303 of the Hydrographic Services Improvement Act of 1998, its amendments, and such other appropriate matters that the Under Secretary refers to the Panel for review and advice.

Date and Time: The meeting will be held Thursday, March 31, 2005, from 8:30 a.m. to 5 p.m., and Friday, April 1, 2005, from 8:30 a.m. to 5 p.m.

Location: Manchester Grand Hyatt San Diego, One Market Place, San Diego, California 92101; telephone: 619-232-1234. The times and agenda topics are subject to change. Refer to the Web site listed below for the most up-to-date meeting agenda.

FOR FURTHER INFORMATION CONTACT: Captain Roger Parsons, Designated Federal Official (DFO), Office of Coast Survey, National Ocean Service, NOAA (N/CS), 1315 East West Highway, Silver Spring, Maryland 20910; Telephone: 301-713-2770, Fax: 301-713-4019; e-mail: Hydroservices.panel@noaa.gov or visit the NOAA HSRP Web site at http://nauticalcharts.noaa.gov/ocs/hsrp/hsrp.htm.

SUPPLEMENTARY INFORMATION: The meeting will be open to public participation for verbal comments and questions at the end of the day on April 1, 2005, with a 30-minute period that will be extended if needed. Each individual or group making a verbal presentation will be limited to a total time of five (5) minutes. Written comments (at least 30 copies) should be submitted to the DFO by March 25, 2005. Written comments received by the HSRP DFO after March 25, 2005, will be distributed to the HSRP, but may not be reviewed prior to the meeting date. Approximately 40 seats will be available for the public, on a first-come, first-served basis.

Matters To Be Considered: Topics planned for discussion include: (1) FY 06 President's Budget (Navigation Services), (2) NOAA Mapping and Charting Outsourcing Strategies, (3) Hydrographic Survey (NOAA) and Private Sector) Cost Analysis Study Proposal, (4) Update on HSRP Congressional Fact-finding Visits, (5) U.S. Ocean Action Plan and NOAA's Hydrographic Services, (6) HSRP Workgroups—Assignments and Deliverables, (7) Endorsement of NOAA's Navigation Services Programs' Operating Principles, and (8) Public Statements.

Dated: March 3, 2005.
Captain Roger L. Parsons,
NOAA, Director, Office of Coast Survey, National Ocean Service, National Oceanic and Atmospheric Administration.

[FR Doc. 05-4542 Filed 3-8-05; 8:45 am]

BILLING CODE 3510-JE-M